DEPARTMENT OF DEFENSE

Department of the Army, Corps of Engineers

33 CFR Part 323

ENVIRONMENTAL PROTECTION AGENCY

40 CFR Part 232

[FRL-6717-2]

Proposed Revisions to the Clean Water Act Regulatory Definitions of “Fill Material” and “Discharge of Fill Material”

AGENCIES: U.S. Army Corps of Engineers, Department of the Army, DOD; and Environmental Protection Agency.

ACTION: Proposed rule; extension of comment period.

SUMMARY: On April 20, 2000, the Department of the Army (Army) and the Environmental Protection Agency (EPA) jointly proposed to revise their Clean Water Act (CWA) regulations defining the term “fill material” (65 FR 21292). Currently, the Army and EPA definitions of fill material differ from each other. The existing Army definition defines “fill material” as any material used for the primary purpose of replacing an aquatic area with dry land or of changing the bottom elevation of a water body, and specifically excludes from that definition any material discharged into the water primarily to dispose of waste, as that activity is regulated under section 402 of the CWA. The existing EPA definition defines “fill material” as any pollutant which replaces a portion of the waters of the U.S. with dry land or which changes the bottom elevation of such waters, regardless of the purpose of the discharge. The proposed rule would amend both the Army and EPA definitions of “fill material” to provide a single definition of that term, and thus ensure proper, consistent, and more effective regulation under the CWA of materials that have the effect of replacing any portion of a water of the U.S. with dry land or of changing the bottom elevation of any portion of a water of the U.S.

The Army and EPA sought comment on the proposed rule by June 19, 2000. In response to comments from the public requesting additional time to fully analyze the issues and prepare comments, we are extending the comment period on the proposed rule to July 19, 2000.

DATES: Comments on the proposed rule must be submitted on or before July 19, 2000.

ADDRESSES: Send written comments on the proposed rule to the Office of the Chief of Engineers, ATTN CECW-OR, 20 Massachusetts Avenue, Washington, DC 20314-1000.

We request that commenters submit any references cited in their comments. We also request that commenters submit an original and 2 copies of their written comments and enclosures. Commenters that want receipt of their comments acknowledged should include a self-addressed, stamped envelope. All written comments must be postmarked or delivered by hand. No facsimiles (faxes) will be accepted.

A copy of the supporting documents for this proposed rule is available for review in Room 6225 at the U.S. Army Corps of Engineers' Pulaski Building, located at 20 Massachusetts Avenue, Washington, DC 20314-1000. For access to docket materials, call (202) 761-0199 between 9 a.m. and 3:30 p.m. for an appointment.

FOR FURTHER INFORMATION CONTACT: For information on the proposed rule, contact either Mr. Thaddeus Rugiel, U.S. Army Corps of Engineers, ATTN CECW-OR, 20 Massachusetts Avenue, Washington, DC 20314-1000, phone: (202) 761-0199, e-mail:Thaddeus.J.Rugiel@ HQ02.USACE.ARMY.MIL, or Mr. John Lishman, U.S. Environmental Protection Agency, Office of Wetlands, Oceans and Watersheds (4502F), 1200 Pennsylvania Avenue NW, Washington, DC 20460, phone: (202) 260-9180, e-mail: lishman.john@epa.gov.

Dated: June 8, 2000.
Michael L. Davis,
Deputy Assistant Secretary (Civil Works), Department of the Army.
Dated: June 12, 2000.
J. Charles Fox,
Assistant Administrator for Water, Environmental Protection Agency.

[FR Doc. 00-15268 Filed 6-15-00; 8:45 am]

BILLING CODE 6560-50-P